DEPARTMENT OF THE INTERIOR

Bureau of Indian Affairs

Notice of Intent to Prepare an Environmental Impact Statement for the Proposed K Road/Moapa Band of Paiute Indians Photovoltaic Solar Facility, Clark County, NV

AGENCY: Bureau of Indian Affairs, Interior.

ACTION: Notice.

SUMMARY: This notice advises the public that the Bureau of Indian Affairs (BIA), as lead agency, with the Moapa Band of Paiute Indians (Tribe), the Bureau of Land Management (BLM), the Environmental Protection Agency (EPA), and the Army Corps of Engineers (Corps), as cooperating agencies, intend to gather information necessary for preparing an environmental impact statement (EIS) for the proposed Moapa Band of Paiute Indians Solar Generation Facility on the Moapa River Indian Reservation, Nevada. This notice also announces public scoping meetings to identify potential issues and content for inclusion in the EIS.

DATES: Written comments on the scope and implementation of the proposal must arrive by March 7, 2011. Several public scoping meetings will be held and notices will be published in local newspapers announcing the dates and locations of the meetings.

ADDRESSES: You may mail, e-mail, hand carry or fax written comments to either Ms. Amy Heuslein, Regional Environmental Protection Officer, BIA Western Regional Office Branch of Environmental Quality Services, 2600 North Central Avenue, 4th Floor Mail Room, Phoenix, AZ 85004-3008; telephone: (602) 379-6750; fax: (602) 379-3833; e-mail: amy.heuslein@bia.gov; or Mr. Paul Schlafly, Natural Resource Officer, BIA Southern Paiute Agency, 180 N. 200 E., Suite 111 or P.O. Box 720, St. George, UT 84771; telephone: (435) 674-9720; fax: (435) 674-9714; e-mail: paul.schlafly@bia.gov.

FOR FURTHER INFORMATION CONTACT: Ms. Amy Heuslein at (602) 379-6750 or amy.heuslein@bia.gov; or Mr. Paul Schlafy at (435) 674-9720 or paul.schlafly@bia.gov.

SUPPLEMENTARY INFORMATION: The proposed Federal action, taken under 25 U.S.C. 415, is the BIA approval of a solar energy ground lease and associated agreements entered into by the Moapa Band of Paiute Indians with K Road Moapa Solar LLC (K Road), and associated approval of rights-of-way and easements, for K Road to construct and operate an up-to 350 MW solar photovoltaic electricity generating facility located entirely on Moapa tribal lands. The Moapa Band of Paiute Indians may use this EIS to make decisions under the Tribal Environmental Policy Ordinance. The BLM may use this EIS to support a decision for a proposed approximately 0.5 mile right-of-way across Federal public lands adjoining the Moapa River Indian Reservation. The right-of-way may be used to link the proposed solar generation facility to an existing substation on a transmission line with a rating up to 500 kilovolts. The USFWS may use this EIS to support its decisions under the Endangered Species Act.

The purposes of the proposed action are to: (1) use the Tribe's solar energy resources and complete a transmission line from the existing electrical grid to the Tribe-owned travel plaza on Interstate 15 (thereby reducing or eliminating the use of diesel-powered generation at the plaza, improving and diversifying the economy of the Moapa Band of Paiute Indians, and providing other benefits to their members in an environmentally compatible manner); and (2) generate clean, renewable electricity that can be efficiently connected to existing transmission lines to help utilities in the region meet their renewable energy goals.

The EIS will assess the alternatives to, and the environmental consequences of, BIA approval, under 25 U.S.C. 415, of a proposed solar energy ground lease and associated agreements between the Moapa Band of Paiute Indians as lessor and K Road as lessee. The ground lease will enable K Road to construct and operate an up-to 350 MW solar photovoltaic electricity generating facility on approximately 2,000 acres of tribal lands held in trust by the United States and located on the Moapa River Indian Reservation, Nevada. The facility will utilize transformers to step up the voltage to interconnection voltage, which will facilitate a connection of the facility with one or more of the following: an existing transmission line on tribal lands (up to 500 kV); the existing 230 kV Crystal substation operated by NV Energy outside tribal lands; and/or the existing 500 kV Crystal substation operated by NV Energy outside tribal lands. The Crystal substation complex is located on BLM land, approximately 0.5 mile from the southern border of the Moapa River Indian Reservation. The proposed BIA actions include approval of the solar energy ground lease and associated agreements, and approval of rights-of-way and easements on the Moapa River Indian Reservation for K Road to construct electric transmission lines and other supporting facilities for one or more interconnections.

K Road has requested the BLM to approve a right-of-way across approximately a 0.5 mile of Federal public lands in Township 17 South, Range 64 East, Section 10, for purposes of constructing an electrical transmission line to connect the solar generating facility and electric transmission on the Moapa River Indian Reservation with the Crystal substation.

K Road intends to construct and operate the solar facility for a period of 35 years, with an option to renew the lease for another 15 years, if mutually acceptable to the Moapa Tribe and K Road. This area is located in Clark County, Nevada, approximately one mile west of Interstate 15 and approximately 30 miles northeast of Las Vegas, Nevada.

The proposed solar facility will be built in phases of 50 to 100 MW each to meet the needs of offtakers or utilities, up to a total of 350 MW. During the construction of each phase, photovoltaic panels will be affixed to the earth using concrete posts, concrete ballast, or other suitable foundation design techniques appropriate to the topography and site conditions. Some or all of the panels may employ trackers to track the sun during the day. No water will be used in the production of electricity. Water will periodically be used for cleaning the photovoltaic panels during routine maintenance, administrative and sanitation uses at the site (e.g., water in a small office on site), and fugitive dust control.

As lead agency, the BIA will have authority over decisions regarding the EIS and BIA's approval of the solar energy ground lease and associated agreements. These decisions will be documented in a Record of Decision (ROD). BLM will have authority over approval of the off-reservation right-of-way, documented in its ROD. Cooperating agencies, including BLM, will provide expertise and data for their resources of interest and will aid in the development of alternatives and mitigation measures that will minimize or prevent significant adverse impacts.

Significant issues to be covered during the scoping process may include, but would not be limited to: air quality, geology and soils, surface and groundwater resources, biological resources, threatened and endangered species, cultural resources, socioeconomic conditions, land use, aesthetics, environmental justice, and Indian trust resources.

Directions for Submitting Public Comments

Please include your name, return address, and the caption “EIS, K Road and Moapa Band of Paiute Indians Solar Facility” on the first page of any written comments you submit. You may also submit comments at the public scoping meetings.

Public Availability of Comments

Comments, including names and addresses of respondents, will be available for public review at the BIA address shown in the ADDRESSES section of this notice, during regular business hours, Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1503.1 of the Council on Environmental Quality Regulations (40 CFR parts 1500 through 1508) and Section 46.305 of the Department of Interior Regulations (43 CFR part 46), implementing the procedural requirements of NEPA, as amended (42 U.S.C. 4321 et seq.), and is in the exercise of authority delegated to the Assistant Secretary—Indian Affairs, by part 209 of the Departmental Manual.

Dated: January 28, 2011.
Larry Echo Hawk,
Assistant Secretary—Indian Affairs.

[FR Doc. 2011-2554 Filed 2-1-11; 4:15 pm]

BILLING CODE 4310-W7-P